DEPARTMENT OF HOUSING AND URBAN DEVELOPMENT

[Docket No. FR-5480-N-85]

Notice of Proposed Information Collection for Public Comment; Emergency Comment Request; FY 2011 Notice of Funding Availability (NOFA) for Neighborhood Stabilization Program Technical Assistance and Capacity Building; Request for Qualifications (NSPTA)

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

DATES: Comments Due Date: September 6, 2011.

ADDRESSES: Interested persons are invited to submit comments regarding this proposal. Comments must be received within 14 days from the date of this Notice. Comments should refer to the proposal by name/or OMB approval number and should be sent to: HUD Desk Officer, Office of Management and Budget, New Executive Office Building, Washington, DC 20503; e-mail: OIR Submission @omb.eop.gov; fax: 202-395-3086.

FOR FURTHER INFORMATION CONTACT: Reports Management Officer, QDAM, Department of Housing and Urban Development, 451 7th Street, SW., Washington, DC 20410; e-mail Colette.Pollard@HUD.gov; telephone (202) 708-2374. This is not a toll-free number. Copies of available documents submitted to OMB may be obtained from the Reports Management Officer.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: FY 2011 Notice of Funding Availability (NOFA) for Neighborhood Stabilization Program Technical Assistance and Capacity Building; Request for Qualifications (NSPTA).

Description of the Need for the Information and Its Proposed Use: The Narratives, Matrices and Reporting Requirements associated with NSP TA will allow CPD to accurately assess the experience, expertise, and overall capacity of applicants for technical assistance under the FY 2011 Program NOFA. They will also allow CPD to monitor and evaluate TA progress over the course of each grant and make necessary interventions. The new format for this type of collection also makes it easier for applicants to apply and report by reducing the time required for filling out an application and reporting forms, while retaining the utility of the previous collection methods.

OMB Control Number: 2506-Pending.

Agency Form Numbers: NSP Technical Assistance and Capacity Building Experience Form; NSP Technical Assistance and Capacity Building Expertise Form.

Members of Affected Public: Business or other for-profit, not-for-profit institutions, State, Local or Tribal Government.

| Number of respondents | Annual responses | × | Hours per response | = | Burden hours
Reporting Burden | 165 | 1.36 |  | 22.466 |  | 5,055

Status: New collection.

Authority: The Paperwork Reduction Act of 1995, 44 U.S.C. Chapter 35, as amended.

Dated: August 16, 2011.
Colette Pollard,
Departmental Reports Management Officer, Office of the Chief Information Officer.

[FR Doc. 2011-21434 Filed 8-22-11; 8:45 am]

BILLING CODE 4210-67-P